DEPARTMENT OF COMMERCE

National Oceanic and Atmospheric Administration

RIN 0648-XB171

North Pacific Fishery Management Council; Public Meeting

AGENCY: National Marine Fisheries Service (NMFS), National Oceanic and Atmospheric Administration (NOAA), Commerce.

ACTION: Notice of a public meeting.

SUMMARY: The North Pacific Fishery Management Council's (NPFMC) Crab Plan Team (CPT) will meet in May in Anchorage, AK.

DATES: The meeting will be held May 7-10, 2012, from 9 a.m. to 5 p.m.

ADDRESSES: The meeting will be held at the Anchorage Hilton Hotel, 500 West Third Avenue, Dillingham Room, Anchorage, AK.

Council address: North Pacific Fishery Management Council, 605 W. 4th Avenue, Suite 306, Anchorage, AK 99501-2252.

FOR FURTHER INFORMATION CONTACT: Diana Stram, NPFMC; telephone: (907) 271-2809.

SUPPLEMENTARY INFORMATION: The Plan Team meeting agenda includes: Review of workshop reports on modeling and recruitment and recommendations on recruitment time frames for BMSY, Tanner crab model review and recommendations on use in specifications in 2012/13, review of rebuilding projections for Tanner crab, final OFL and ABC specification for Norton Sound red king crab, Aleutian Islands golden king crab, Pribilof Islands golden king crab and Adak red king crab for 2012/13,review data for AIGKC model and plans for model review in September, recommend appropriate stock boundary for the Pribilof Islands blue king crab stock, review of methodology to set OFL for St Matthew and Pribilof Islands blue king crab stocks, snow crab model proposals for 2012/13, discuss proposed crab bycatch limits in groundfish fisheries, handling mortality study, BMSY study, growth and maturity study, economic SAFE report overview, and Bristol Bay red king crab spawning effects paper.

The Agenda is subject to change, and the latest version will be posted at http://www.fakr.noaa.gov/npfmc/PDFdocuments/membership/PlanTeam/Crab/CPTagenda512.pdf.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 17, 2012.
Tracey L. Thompson,
Acting Director, Office of Sustainable Fisheries, National Marine Fisheries Service.

[FR Doc. 2012-9541 Filed 4-19-12; 8:45 am]

BILLING CODE 3510-22-P